DEPARTMENT OF AGRICULTURE

Grain Inspection, Packers and Stockyards Administration

United States Standards for Whole Dry Peas

AGENCY: Grain Inspection, Packers and Stockyards Administration, USDA.

ACTION: Notice and request for comment.

SUMMARY: The Department of Agriculture's (USDA) Grain Inspection, Packers and Stockyards Administration (GIPSA) is soliciting comments on proposed revisions to the United States Standards for Whole Dry Peas. The proposal would establish an additional color grading factor requirement for the Whole Dry Peas class “Smooth Yellow Dry Peas” and establish a definition for “fair color yellow peas.” These changes are being proposed at the request of the Dry Pea industry and will help facilitate the marketing of the class, Smooth Yellow Dry Peas and help ensure the purity of classes for Whole Dry Peas.

DATES: GIPSA will consider comments received by January 13, 2014.

ADDRESSES: You may submit your written or electronic comments on this notice to:

• Mail, hand deliver, or courier: Irene Omade, GIPSA, USDA, 1400 Independence Avenue SW., Room 2530, Washington, DC 20250-3604.

• Email comments to: comments.gipsa@usda.gov.

• Fax: (202) 690-2173.

• Internet: Go to http://www.regulations.gov and follow the On-Line instruction for submitting comments.

All comments will become a matter of public record and should be identified as “Whole Dry Pea Notice Comments,” making reference to the date and page number of this issue of the Federal Register. Comments will be available for public inspection in the above office during regular business hours (7 CFR 1.27(b)). Please call the GIPSA Management Support Staff at (202) 720-7486 to make an appointment to read comments.

FOR FURTHER INFORMATION CONTACT: Beverly A. Whalen at USDA, GIPSA, FGIS, Policies, Procedures, and Market Analysis Branch, Field Management Division, National Grain Center, 10383 N. Ambassador Drive, Kansas City, Missouri 64153; Telephone (816) 659-8410; Fax Number (816) 872-1258; email Beverly.A.Whalen@usda.gov.

SUPPLEMENTARY INFORMATION:

Background

Section 203(c) of the Agricultural Marketing Act of 1946, as amended (AMA) (7 U.S.C. 1622(c)), directs and authorizes the Secretary of Agriculture “To develop and improve standards of quality, condition, quantity, grade, and packaging and recommend and demonstrate such standards in order to encourage uniformity and consistency in commercial practices.” GIPSA is committed to carrying out this authority in a manner that facilitates the marketing of agricultural commodities.

GIPSA establishes and maintains a variety of quality and grade standards for agricultural commodities that serve as the fundamental starting point to define commodity quality in the domestic and global marketplace.

GIPSA provides official procedures for how inspectors determine the various grading factors in supporting handbooks, such as the Pea and Lentil Handbook, which is available on GIPSA's public Web site at: http://www.gipsa.usda.gov/Publications/fgis/handbooks/pealentil_insphb.html.

The AMA standards and official procedures are voluntary and used widely in private contracts, government procurement and marketing communication. Standards developed under the AMA include those for rice, whole dry peas, split peas, feed peas, lentils and beans. The U.S. standards for whole dry peas, split peas, feed peas, lentils and beans no longer appear in the Code of Federal Regulations, but are now maintained by USDA-GIPSA. The process for developing or reviewing these standards is specified in the AMA regulations (7 CFR 868.102, Procedures for establishing and revising grade standards.) The U.S. Standards for Whole Dry Peas and Split Peas are available from the GIPSA Web site at Http://www.gipsa.usda.gov, or by phone, fax, or email from the contact listed above.

GIPSA representatives maintain an ongoing working relationship with the USA Dry Pea and Lentil Council (USADPLC), a national organization of producers, processors, and exporters of U.S. dry peas, lentils, and chickpeas; the US Dry Pea and Lentil Trade Association (USPLTA), a national association representing processors, traders, and transporters in the pea and lentil industry; as well as handlers and merchandisers, to ensure the effectiveness of the U.S. Standards for whole dry peas, split peas, and lentils in today's marketing environment. According to information received by GIPSA from the USADPLC and USPLTA, some currently popular smooth yellow dry pea varieties do not have a true yellow color which necessitates changes to the whole dry pea grade standards. As a result, GIPSA is proposing to establish an additional color grading factor requirement for the Whole Dry Peas class “Smooth Yellow Dry Peas” and establish a definition for “fair color yellow peas.” The proposed addition to the grade standards will enable the class of smooth yellow dry peas to be marketed on the basis of acceptable appearance.

Whole Dry Pea Color Requirement and Definition Changes

After discussions with pea breeders, producers, processors, and merchandisers, GIPSA is proposing to change the way in which the color standard is applied to the U.S. No. 2 Whole Dry Peas “Smooth Yellow Dry Pea” classification only. Doing so will improve the effectiveness of the standards so they may better facilitate product marketing.

The current U.S. Standards for Whole Dry Peas characterize the minimum color requirement for U.S. Nos. 1 and 2 as being “good color peas” and the minimum color requirement for U.S. No. 3 as “poor color peas.” The existing dry pea color characterizations “good” and “poor” do not sufficiently address all possible degrees of color in some Smooth Yellow Dry Pea varieties. Samples that are marginally discolored and those which are significantly discolored are both considered to be “poor color peas.” Due to the economic significance general appearance (color) has for processors and end-users, GIPSA worked with the USADPLC to establish an additional minimum color requirement for the U.S. No. 2 Smooth Yellow Dry Pea classification only; and a clear definition to describe the color “fair color yellow pea”. Also, GIPSA worked with USADPLC to create a visual reference image that will aid in the consistent application of a fair color. The proposed definition for fair color yellow peas is: “Dry yellow peas that in mass are lightly to moderately discolored as a result of storage or any other cause to the extent they cannot be considered of good color.” The addition of “fair color yellow peas” as a minimum color requirement for U.S. No. 2 “Smooth Yellow Dry Pea” classification only; the definition of “fair color yellow peas”; and the establishment of the visual aid for the color to the U.S. Standards for Whole Dry Peas will result in a more uniform and consistent application of the standards.

“Good color peas” will continue to serve as a minimum color requirement for all classes of U.S. No. 1 Whole Dry Peas and “Good color peas” will continue to serve as a minimum color requirement for all classes of U.S. No. 2 Whole Dry Peas with the exception of Smooth Yellow Dry Peas. Samples meeting the minimum color requirement “poor color peas” will receive no better than a U.S. No. 3 grade designation for all classes of Whole Dry Peas.

Proposed GIPSA Action

GIPSA is proposing to establish an additional color grading factor requirement for the Whole Dry Peas class “Smooth Yellow Dry Peas” and establish a definition for “fair color yellow peas.” The proposed addition to the grade standards will enable the class of Smooth Yellow Dry Peas to be marketed on the basis of acceptable appearances. The proposed definition for fair color yellow peas is as follows: “Dry yellow peas that in mass are lightly to moderately discolored as a result of storage or any other cause to the extent they cannot be considered of good color.”

Grades, Grade Requirements, and Grade Designations
[406 Grades and grade requirements for dockage-free dry peas. (See also 408.)]
Grading factors | Maximum percent limits of: Grades U.S. Nos. ¹: 1 | Maximum percent limits of: Grades U.S. Nos. ¹: 2 | Maximum percent limits of: Grades U.S. Nos. ¹: 3
Defective Peas:
Weevil-Damaged Peas | 0.3 | 0.8 | 1.5
Heat-Damaged Peas | 0.2 | 0.5 | 1.0
Damaged Peas ² | 1.0 | 1.5 | 2.0
Other Classes ³ | 0.3 | 0.8 | 1.5
Bleached Peas ⁴ | 1.5 | 3.0 | 5.0
Split Peas | 0.5 | 1.0 | 1.5
Shriveled Peas | 2.0 | 4.0 | 8.0
Peas with Cracked Seedcoats | 5.0 | 7.0 | 9.0
Foreign Material | 0.1 | 0.2 | 0.5
Minimum Requirements for Color | Good | Good | Poor
Smooth Yellow Dry Peas | Good | Fair | Poor
U.S. Sample grade: U.S. Sample grade shall be dockage-free peas which:
(a) Do not meet the requirements for the grades U.S. Nos. 1, 2, or 3; or
(b) Contain metal fragments, broken glass, or a commercially objectionable odor; or
(c) Contain more than 15 percent moisture; or
(d) Are materially weathered, heating, or distinctly low quality; or
(e) Are infested with live weevils or other live insects.⁵
¹ Uniformity of Size Requirements—Dry peas of any of the numerical grades shall be of such size that not more than 3.0 percent shall pass through the appropriate oblong-hole sieve as follows:
Mottled peas: 9/64″ x 3/4″
Special grade—Small peas: 10/64″ x 3/4″
All other peas: 11/64″ x 3/4″
² Damaged peas do not include weevil-damaged or heat-damaged peas.
³ These limits do not apply to the class Mixed Dry peas.
⁴ These limits do not apply to Mottled, Wrinkled and/or Miscellaneous Dry peas, except for Marrowfat-type Dry peas.
⁵ As applied to dockage-free whole dry peas, the meaning of the term infested as set forth in the Pea and Lentil Inspection Handbook.

GIPSA will solicit comments for 60 days. All comments received within the comment period will be made part of the public record maintained by GIPSA, will be available to the public for review, and will be considered by GIPSA before final action is taken on the proposal.

Authority: 7 U.S.C. 1621 et seq.

Larry Mitchell,
Administrator, Grain Inspection, Packers and Stockyards Administration.

[FR Doc. 2013-27131 Filed 11-13-13; 8:45 am]

BILLING CODE 3410-KD-P